AGENCY FOR INTERNATIONAL DEVELOPMENT

Agency Information Collection Activities; Submission to the Office of Management and Budget (OMB) for Review and Approval; Pulse Surveys for USAID's Non-U.S. Direct-Hire Workforce

AGENCY: United States Agency for International Development (USAID)

ACTION: Notice of emergency OMB approval.

SUMMARY: In accordance with the emergency review procedures of the Paperwork Reduction Act of 1995 (PRA), the United States Agency for International Development (USAID), is announcing that it is requesting emergency approval from the Office of Management and Budget (OMB) for a new information collection to survey its collective workforce to share their thoughts to help inform leadership actions specifically on how best to strengthen, empower, and support our global workforce in accordance with Pillar I of the President's Management Agenda.

DATES: USAID plans initially to seek information between March and December of 2022.

FOR FURTHER INFORMATION CONTACT: Requests for additional information should be directed to Lynn Winston @lwinston@usaid.gov or on (202) 921-5068.

SUPPLEMENTARY INFORMATION: Pursuant to 5 CFR 1320.13, the Agency submitted a request for emergency approval of a new information collection from the agency's complementary workforce (everyone who has a usaid.gov email address excluding USDH who have already been surveyed), including Personal Services Contractors, Institutional Support Contractors and other categories on three the topics included in the government-wide pulse surveys: Navigation of the ongoing pandemic and the safe, increased return of Federal employees to physical workplaces; equity and inclusion and employee engagement and burnout.

Description of Proposed Use of Information

The information will be collected via digital surveys and by USAID managers to inform decision making to appropriately respond to findings to strengthen and empower the workforce.

Time Burden

OMB's approval enables USAID to engage a total of 7,000 individual respondents. Each respondent will be requested to provide five minutes for each survey. As such, the total estimated time burden of this proposed information collection request is 1,167 hours.

Ruth Buckley,
Director, Bureau for Management, Office of Management, Policy, Budget and Performance.

[FR Doc. 2022-05890 Filed 3-18-22; 8:45 am]

BILLING CODE P